DEPARTMENT OF COMMERCE

National Oceanic and Atmospheric Administration

[I.D. 123004B]

Pacific Fishery Management Council; Public Meeting

AGENCY: National Marine Fisheries Service (NMFS), National Oceanic and Atmospheric Administration (NOAA), Commerce.

ACTION: Notice of public meeting.

SUMMARY: The Pacific Fishery Management Council's (Council) Ad Hoc Groundfish Information Policy Committee (GIPC) will hold a working meeting, which is open to the public.

DATES: The GIPC meeting will be held Tuesday, January 25, 2005 from 8:30 a.m. until business for the day is completed. The GIPC meeting will reconvene Wednesday, January 26, 2005, from 8:30 a.m. until noon.

ADDRESSES: The GIPC meeting will be held at the Embassy Suites Hotel Portland Airport, Cedars I and II Rooms, 7900 NE 82nd Avenue, Portland, Oregon 97220. Telephone: 503-460-3000.

Council address: Pacific Fishery Management Council, 7700 NE Ambassador Place, Suite 200, Portland, Oregon 97220-1384.

FOR FURTHER INFORMATION CONTACT: Mr. John DeVore, Groundfish Management Coordinator; telephone: 503-820-2280.

SUPPLEMENTARY INFORMATION: The purpose of the GIPC meeting is to formulate and recommend a groundfish information management policy to the Council. The recommended policy will categorize the types and sources of information in use for groundfish management, consider what new types of information may be available in the future, specify review requirements for new information before it can become part of the decision-making process, consider guidelines for replacing older information with new or updated information, and recommend an implementation time line that facilitates the groundfish management process while considering the magnitude of potential harm to the species of concern and disruption to the fishery that can result from untimely incorporation of new information. Specific topics that will be discussed at this meeting will be a schedule of new observer data reports, development of a policy for mid-term optimum yield adjustments during a biennial management cycle, development of a policy for inseason management adjustments, and development of a policy for considering data and models when deciding biennial specifications and management measures. No management actions will be decided by the GIPC. The GIPC's role will be development of recommendations for consideration by the Council at its March meeting in Sacramento, California.

Although nonemergency issues not contained in the meeting agenda may come before the GIPC for discussion, those issues may not be the subject of formal committee action during this meeting. Committee action will be restricted to those issues specifically listed in this notice and any issues arising after publication of this notice that require emergency action under Section 305(c) of the Magnuson-Stevens Fishery Conservation and Management Act, provided the public has been notified of the GIPC's intent to take final action to address the emergency.

Special Accommodations

This meeting is physically accessible to people with disabilities. Requests for sign language interpretation or other auxiliary aids should be directed to Ms. Carolyn Porter at 503-820-2280 at least 5 days prior to the meeting date.

Dated: December 30, 2004.
Alan D. Risenhoover,
Acting Director, Office of Sustainable Fisheries, National Marine Fisheries Service.

[FR Doc. E4-3930 Filed 1-4-05; 8:45 am]

BILLING CODE 3510-22-S